Title 3—

The President

Executive Order 13906 of February 13, 2020

Amending Executive Order 13803—Reviving the National Space Council

By the authority vested in me as President by the Constitution and the laws of the United States of America, it is hereby ordered as follows:

Section 1. Membership of the Council. Section 2(b) of Executive Order 13803 of June 30, 2017 (Reviving the National Space Council) is hereby amended to read as follows:

“(b) The Council shall be composed of the following members:

(i) The Vice President, who shall be Chair of the Council;

(ii) The Secretary of State;

(iii) The Secretary of Defense;

(iv) The Secretary of Commerce;

(v) The Secretary of Transportation;

(vi) The Secretary of Energy;

(vii) The Secretary of Homeland Security;

(viii) The Director of National Intelligence;

(ix) The Director of the Office of Management and Budget;

(x) The Assistant to the President for National Security Affairs;

(xi) The Assistant to the President for Economic Policy;

(xii) The Assistant to the President for Domestic Policy;

(xiii) The Administrator of the National Aeronautics and Space Administration;

(xiv) The Director of the Office of Science and Technology Policy;

(xv) The Chairman of the Joint Chiefs of Staff; and

(xvi) The heads of other executive departments and agencies (agencies) and other senior officials within the Executive Office of the President, as determined by the Chair.”

Sec. 2. Revocation of Quarterly Reporting Requirement. The first sentence of section 4(c) of Executive Order 13803 is hereby revoked.

Sec. 3. General Provisions. (a) Nothing in this order shall be construed to impair or otherwise affect:

(i) the authority granted by law to an executive department or agency, or head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

February 13, 2020.

[FR Doc. 2020-03556

Filed 2-19-20; 11:15 am]

Billing code 3295-F0-P